DEPARTMENT OF VETERANS AFFAIRS

[OMB Control No. 2900—NEW]

Agency Information Collection Activity Under OMB Review: VA Disaster Resilience Survey of Community Dwelling Veterans

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before August 22, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900—NEW” in any correspondence.

FOR FURTHER INFORMATION CONTACT: Cynthia Harvey-Pryor, Office of Quality, Privacy and Risk (OQPR), Department of Veterans Affairs, 810 Vermont Avenue NW, Washington, DC 20420, (202) 461-5870 or email cynthia.harvey-pryor@va.gov Please refer to “OMB Control No. 2900—NEW” in any correspondence.

SUPPLEMENTARY INFORMATION:

Authority: N/A.

Title: VA Disaster Resilience Survey of Community Dwelling Veterans; VA Form 10-21086(NR).

OMB Control Number: 2900—NEW.

Type of Review: New collection.

Abstract: The proposed study is being conducted by the Veterans Emergency Management Evaluation Center (VEMEC) of the U.S. Department of Veterans Affairs. The mission of VEMEC is to promote the health and social welfare of America's Veterans and the Nation by initiating and coordinating projects aimed at developing evidence-based practices for use in mitigating against, preparing for, responding to, and recovering from national emergencies and natural disasters. In so doing, VEMEC helps to ensure timely access to high-quality health care for our nation's veterans. The proposed study will be a one-time study of all VA patients in the United States. We will survey a sample of Veterans who at the time of fielding received care from any VA healthcare system in the U.S. at least once in the past 24 months. Health status, socioeconomic status, and other factors can impact a Veteran's resiliency/vulnerability during major disaster.

An agency may not conduct or sponsor, and a person is not required to respond to a collection of information unless it displays a currently valid OMB control number. The Federal Register Notice with a 60-day comment period soliciting comments on this collection of information was published at 82 FR 48747 on October 19, 2017, pages 48747 and 48748.

Affected Public: Individuals and households.

Estimated Annual Burden: 905 hours.

Estimated Average Burden per Respondent: 15 minutes.

Frequency of Response: One time.

Estimated Number of Respondents: 3,620.

By direction of the Secretary.
Cynthia Harvey-Pryor,
Department Clearance Officer, Office of Quality, Privacy and Risk, Department of Veterans Affairs.

[FR Doc. 2018-15640 Filed 7-20-18; 8:45 am]

BILLING CODE 8320-01-P